DEPARTMENT OF TRANSPORTATION

Pipeline and Hazardous Materials Safety Administration

49 CFR Part 192

[Docket No. PHMSA-98-4470]

Pipeline Safety: Gas Gathering Line, Definition; Meeting of the Technical Pipeline Safety Standards Advisory Committee

AGENCY: Department of Transportation (DOT), Pipeline and Hazardous Materials Safety Administration (PHMSA), Department of Transportation (DOT).

ACTION: Proposed rule; Notice of meeting.

SUMMARY: This notice announces a public meeting of the Pipeline and Hazardous Materials Safety Administration's (PHMSA) Technical Pipeline Safety Standards Committee (TPSSC) to vote on a proposed rule to use consensus standards to distinguish onshore gathering lines, to establish safety standards for certain higher-risk onshore gathering lines, and to change current standards on low-risk onshore gathering lines.

DATES: The TPSSC will meet on Thursday, January 19, 2006, from 10 a.m. to 12 noon, e.s.t.

Written comments must be received by January 26, 2006.

ADDRESSES: The Advisory Committee members will participate via telephone conference call. Members of the public may attend the meeting at the U.S. Department of Transportation, 400 Seventh Street, SW., Washington, DC, room 3328.

FOR FURTHER INFORMATION CONTACT: For additional information regarding this meeting contact: Cheryl Whetsel, OPS, (202) 366-4431; cheryl.whetsel@dot.gov.

SUPPLEMENTARY INFORMATION: 1. Meeting Details: Members of the public may attend the meeting. PHMSA will post any additional information or changes on its Web page (http://phmsa.dot.gov).

Members of the public may make short statements on the topics under discussion. Anyone wishing to make an oral statement should notify Cheryl Whetsel, no later than January 12th of the topic and the length of the presentation. The presiding officer at the meeting may deny any request to present an oral statement and may limit the time of any presentation.

You may submit written comments by mail or deliver them to the Dockets Facility by January 26, 2006, U.S. Department of Transportation, Room PL-401, 400 Seventh Street, SW., Washington, DC 20590-0001. The Dockets Facility is open from 9 a.m. to 5 p.m., Monday through Friday, except Federal holidays. You also may submit written comments to the docket electronically by logging onto the following Internet Web address: http://dms.dot.gov. Click on “Help & Information” for instructions on how to file a document electronically. All written comments should reference docket number RSPA-98-4470. Anyone who would like confirmation of mailed comments must include a self-addressed stamped postcard.

Privacy Act Statement: Anyone may search the electronic form of all comments received for any of our dockets. You may review DOT's complete Privacy Act Statement in the Federal Register published on April 11, 2000 (65 FR 19477) or you may visit http://dms.dot.gov.

Information on Services for Individuals with Disabilities: For information on facilities or services for individuals with disabilities, or to request special assistance at the meeting, please contact Cheryl Whetsel at (202) 366-4431 by January 12, 2006.

2. TPSSC Background: The TPSSC is a statutorily mandated advisory committee that advises PHMSA on proposed safety standards for gas pipelines. The TPSSC was established under section 10(a)(2) of the Federal Advisory Committee Act (Pub. L. 92-463, 5 U.S.C. App. 1). The committee consists of 15 members—five each representing government, industry, and the public. The TPSSC is tasked with determining reasonableness, cost-effectiveness, and practicability of regulatory initiatives.

Federal law requires PHMSA to submit cost-benefit analyses and risk assessment information on each proposed safety standard to the advisory committees. The TPSSC evaluates the merits of the data and, when appropriate, provide recommendations on the adequacy of the cost-benefit analyses.

3. SNPRM Background: On September 25, 1991 (56 FR 48505), DOT published a notice of proposed rulemaking to revise the definition of “gathering line” in its gas pipeline safety standards. Because the proposal proved controversial, final action was postponed pending collection of additional information. In this Supplemental Notice of Proposed Rulemaking (SNPRM), PHMSA is proposing use of a consensus standard to distinguish onshore gathering lines. PHMSA's gas pipeline safety standards do not provide an adequate basis for distinguishing these pipelines from production facilities and transmission lines. In addition, PHMSA is proposing to establish safety standards for certain higher-risk onshore gathering lines, and to relax current standards on certain low-risk onshore gathering lines. (Onshore gathering lines in inlets of the Gulf of Mexico are not affected.) Operators would use a new risk-based approach to determine which of its gathering lines are “regulated onshore gathering lines” and what safety standards the lines must meet. At present, PHMSA's safety standards do not apply to onshore gathering lines in rural locations, while onshore gathering lines in non-rural locations must meet the same requirements as transmission lines. This regulatory approach is insufficient to assure that conditions on gathering lines that pose a greater risk to the public and property are addressed. And it does not take into account the lower risk some other gathering lines pose. The intended effects of the proposed rules are improved identification of gathering lines, improved public confidence in the safety of gathering lines, and safety requirements better tailored to gathering line risks. The TPSSC will be voting on the reasonableness, cost-effectiveness, and practicability of this proposed regulation.

PHMSA will issue a final rule based on the proposed rule, the comments received from the public, and the vote and comments of the advisory committee.

Authority: 49 U.S.C. 60102, 60115.

Issued in Washington, DC on January 5, 2006.
Stacey L. Gerard,
Associate Administrator for Pipeline Safety.

[FR Doc. 06-224 Filed 1-6-06; 2:33 pm]

BILLING CODE 4910-60-P